FEDERAL COMMUNICATIONS COMMISSION

47 CFR Part 27

[WT Docket No. 18-120]

Transforming the 2.5 GHz Band

AGENCY: Federal Communications Commission.

ACTION: Correcting amendments.

SUMMARY: The Federal Communications Commission (FCC or Commission) is correcting final rules that appeared in the Federal Register on October 25, 2019. The published rules contained language stating that certain rules were not currently effective, because the FCC was awaiting Paperwork Reduction Act approval from the Office of Management and Budget (OMB). In fact, OMB had previously granted Paperwork Reduction Act approval, and the language in question was unnecessary. By correcting these amendments, the FCC removes unnecessary rules.

DATES: Effective January 10, 2020.

FOR FURTHER INFORMATION CONTACT: John Schauble of the Wireless Telecommunications Bureau, Broadband Division, at (202) 418-0797 or John.Schauble@fcc.gov.

SUPPLEMENTARY INFORMATION: For the reason stated in the summary, the Commission removes 47 CFR 27.14(v) and 27.1204(f), which were erroneously added in final rules published on October 25, 2019 (84 FR 57343).

List of Subjects in 47 CFR Part 27

Communications common carriers, Communications equipment.

Accordingly, 47 CFR part 27 is corrected by making the following correcting amendments:

PART 27—MISCELLANEOUS WIRELESS COMMUNICATIONS SERVICES

1. The authority citation for part 27 continues to read as follows:

Authority: 47 U.S.C. 154, 301, 302a, 303, 307, 309, 332, 336, 337, 1403, 1404, 1451, and 1452, unless otherwise noted.

§ 27.14 [Amended]

2. In § 27.14, remove paragraph (v).

§ 27.1204 [Amended]

3. In § 27.1204, remove paragraph (f).

Federal Communications Commission.
Cecilia Sigmund,
Federal Register Liaison Officer, Office of the Secretary.

[FR Doc. 2019-27923 Filed 1-9-20; 8:45 am]

BILLING CODE 6712-01-P